DEPARTMENT OF HEALTH AND HUMAN SERVICES

Centers for Disease Control and Prevention

[Docket No. CDC-2020-0070]

Proposed Data Collection Submitted for Public Comment and Recommendations: Extension of Comment Period

AGENCY: Centers for Disease Control and Prevention (CDC), Department of Health and Human Services (HHS).

ACTION: Notice.

SUMMARY: The Centers for Disease Control and Prevention (CDC)within the Department of Health and Human Services (HHS) announces the extension of the comment period for CDC Docket Number CDC-2020-0070, CDC Diabetes Prevention Recognition Program for an additional 30 days.

DATES: Written comments must be received on or before September 14, 2020.

ADDRESSES: You may submit comments, identified by Docket No. CDC-2020-0070 by either of the following methods. CDC does not accept comment by email.

• Federal eRulemaking Portal: https://www.regulations.gov. Follow the instructions for submitting comments.

• Mail: Jeffrey Zirger, Information Collection Review Office, Centers for Disease Control and Prevention, 1600 Clifton Road NE, MS-D74, Atlanta, Georgia 30329.

FOR FURTHER INFORMATION CONTACT: Jeffrey Zirger, Information Collection Review Office, Centers for Disease Control and Prevention, 1600 Clifton Road NE, MS-D74, Atlanta, Georgia 30329; phone: (404) 639-7118.

SUPPLEMENTARY INFORMATION: On June 15, 2020, as required by the Paperwork Reduction Act, CDC published a notice in the Federal Register requesting public comment and recommendations on a proposed data collection titled CDC Diabetes Prevention Recognition Program (OMB Control Number 0920-0909) (85 FR 36214). Since then, CDC has received a request to extend the comment period to permit participants in four regional Tribal consultation calls to provide comment on this proposed data collection. Four consultation calls are scheduled for after August 14, 2020, the original closing date of the docket.

Jeffrey M. Zirger,
Lead, Information Collection Review Office, Office of Science, Office of Scientific Integrity, Centers for Disease Control and Prevention.

[FR Doc. 2020-16798 Filed 7-31-20; 8:45 am]

BILLING CODE 4163-18-P